DEPARTMENT OF THE INTERIOR

Bureau of Land Management

[LLAK910000 L13100000.DB0000 LXSINSSI0000]

Notice of Public Meeting, North Slope Science Initiative—Science Technical Advisory Panel

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI)—Science Technical Advisory Panel (STAP) will meet as indicated below.

DATES: The meeting will be held September 23 and 24, 2014, at the Campbell Creek Science Center, 5600 Science Center Drive, Anchorage, Alaska. The meetings will begin at 9:00 a.m. each day. Public comment will be received between 3:00 and 4:00 p.m. on Tuesday, September 23, 2014.

FOR FURTHER INFORMATION CONTACT: Dennis Lassuy, Deputy Director and Acting Designated Federal Officer, North Slope Science Initiative, AK-910, c/o Bureau of Land Management, 222 W. Seventh Avenue, #13, Anchorage, AK 99513, (907) 271-3212 or email dlassuy@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The NSSI STAP provides advice and recommendations to the NSSI Oversight Group regarding priority information needs for management decisions across the North Slope of Alaska. These priority information needs may include recommendations on inventory, monitoring, and research activities that contribute to informed resource management decisions. This meeting agenda will include discussions of: The North Slope Scenarios Project; a long-term monitoring strategy for the North Slope; and review of the status of the Emerging Issues Summaries revised in June 2014. In addition, the STAP will join the NSSI Oversight Group in a joint meeting the afternoon of September 24, 2014. The public may present written comments to the STAP through the Deputy Director, North Slope Science Initiative. Each formal meeting will also have time allotted for hearing public comments. Depending on the number of persons wishing to comment and time available, the time for individual oral comments may be limited. Individuals who plan to attend and need special assistance, such as sign language interpretation, transportation, or other reasonable accommodations, should contact the Deputy Director, North Slope Science Initiative. Before including your address, phone number, email address, or other personal identifying information in your comment, you should be aware that your entire comment—including your personal identifying information—may be made publicly available at any time. While you can ask us in your comment to withhold your personal identifying information from public review, we cannot guarantee that we will be able to do so.

Dated: August 21, 2014.
Bud C. Cribley,
State Director.

[FR Doc. 2014-20576 Filed 8-29-14; 8:45 am]

BILLING CODE 1310-JA-P